DEPARTMENT OF LABOR

Employment and Training Administration

[TA-W-39,271]

The Customshop.Com, Drexel Shirt, Adminstaff, TCS Acquisition Corp., Franklin, New Jersey; Amended Certification Regarding Eligibility To Apply for Worker Adjustment Assistance

In accordance with section 223 of the Trade Act of 1974 (19 USC 2273) the Department of Labor issued a Certification of Eligibility to Apply for Worker Adjustment Assistance on December 13, 2001, applicable to workers of The CumstomShop.com, Franklin, New Jersey. The notice was published in the Federal Register on December 26, 2001 (66 FR 66426).

At the request of the State agency, the Department reviewed the certification for workers of the subject firm. The workers were engaged in the production of men's custom shirts.

New information provided by the State shows that during different periods of time, The CustomShop.com operated under additional company names: Drexel Shirt, Adminstaff and TCS Acquisition Corp. Therefore, claimants' wages were reported under the Unemployment Insurance (UI) tax accounts for The CustomShop.com, Drexel Shirt, Adminstaff and TCS Acquisition Corp., Franklin, New Jersey.

The intent of the Department's certification is to include all workers of The CustomShop.com who were adversely affected by increased imports.

Accordingly, the Department is amending the certification to properly reflect this matter.

The amended notice applicable to TA-W-39,271 is hereby issued as follows:

“All workers of The CustomShop.com, Drexel Shirt, Adminstaff and TCS Acquisition Corp., Franklin, New Jersey who became totally or partially separated from employment on or after May 2, 2000, through December 13, 2003, are eligible to apply for adjustment assistance under section 223 of the Trade Act of 1974.

Signed at Washington, DC this 16th day of April, 2002.
Linda G. Poole,
Certifying Officer, Division of Trade Adjustment Assistance.

[FR Doc. 02-10894 Filed 5-1-02; 8:45 am]

BILLING CODE 4510-30-M